NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 75 FR 8409, and no substantial comments were received. NSF is forwarding the proposed revised submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 7th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission may be obtained by calling 703-292-7556. NSF may not conduct or sponsor a collection of information unless the collection of information displays a currently valid OMB control number and the agency informs potential persons who are to respond to the collection of information that such persons are not required to respond to the collection of information unless it displays a currently valid OMB control number.

SUPPLEMENTARY INFORMATION: Title of Collection: 2010 National Survey of Recent College Graduates.

OMB Approval Number: 3145-0077.

Type of Request: Intent to seek approval to revise an information collection for three years.

1. Abstract

The National Survey of Recent College Graduates (NSRCG) has been conducted biennially since 1974. The 2010 NSRCG will consist of a sample of individuals who have recently completed bachelor's and master's degrees in science, engineering and health from U.S. institutions. The purpose of this study is to provide national estimates of new entrants into the science and engineering workforce with recent bachelor's and master's degrees in science, engineering, and health fields from U.S. institutions, and estimates of their characteristics. The study is one of three components of the Scientists and Engineers Statistical Data System (SESTAT), which produces national estimates of the size and characteristics of the nation's science and engineering workforce.

The National Science Foundation Act of 1950, as subsequently amended, includes a statutory charge to “ * * * provide a central clearinghouse for the collection, interpretation, and analysis of data on scientific and engineering resources, and to provide a source of information for policy formulation by other agencies of the Federal Government.” The NSRCG is designed to comply with these mandates by providing information on the supply and utilization of the nation's recent bachelor's and master's level scientists and engineers. Collected data will be used to produce estimates of the characteristics of these individuals. They will also provide necessary input into the SESTAT labor force data system, which produces national estimates of the size and characteristics of the country's science and engineering personnel. The Foundation uses this information to prepare congressionally mandated reports such as Women, Minorities and Persons with Disability in Science and Engineering and Science and Engineering Indicators. NSF publishes statistics from the survey in many reports, but primarily in the biennial series, Characteristics of Recent Science and Engineering Graduates in the United States. A public release file of collected data, designed to protect respondent confidentiality, will be made available to researchers on CD-ROM and on the World Wide Web.

Mathematica Policy Research will conduct the study under contract for NSF. Data are obtained by mail questionnaire, computer assisted telephone interview and web survey beginning October 2010. The survey will be collected in conformance with the Confidential Information Protection and Statistical Efficiency Act of 2002 and Privacy Act of 1974. The individual's response to the survey is voluntary. NSF will insure that all information collected will be kept strictly confidential and will be used only for research or statistical purposes.

2. Expected Respondents

A sample of approximately 300 institutions in the U.S. that grant S&E degrees will be contacted in the first stage of the survey to provide a list of bachelor's and master's degree recipients in the most two recent academic years in order to construct the sampling frame of graduates. In the second stage, a sample of 18,000 bachelor's and master's degree recipients in science, engineering, and health will be contacted for the survey. The total response rate in 2008 for the first stage was 95 percent and second stage was 71 percent.

3. Burden on the Public

The amount of time for the 300 sampled institutions to provide their graduate lists is estimated on average to be 3 hours. The amount of time for the sampled graduates to complete the NSRCG questionnaire may vary depending on an individual's circumstances; however, on average it will take approximately 25 minutes to complete the survey. Assuming 90% response rate from the sampled institutions, and 80% response rate from the sampled graduates, NSF estimates that the total burden for the 2010 NSRCG will be 6,815 hours.

Dated: May 20, 2010.
Suzanne H. Plimpton,
Reports Clearance Officer, National Science Foundation.

[FR Doc. 2010-12530 Filed 5-24-10; 8:45 am]

BILLING CODE 7555-01-P